DEPARTMENT OF TRANSPORTATION

Coast Guard

[USCG-2002-11490]

Towing Safety Advisory Committee; Meetings

AGENCY: Coast Guard, DOT.

ACTION: Notice of meetings.

SUMMARY: The Towing Safety Advisory Committee (TSAC) and its working groups will meet as required to discuss various issues relating to shallow-draft inland and coastal waterway navigation and towing safety. All meetings will be open to the public.

DATES: TSAC will meet on Thursday, March 14, 2002, from 8 a.m. to 12:30 p.m. The working groups will meet on Wednesday, March 13, 2002, from 9 a.m. to 3:30 p.m. These meetings may close early if all business is finished. Written material and requests to make oral presentations should reach the Coast Guard on or before February 25, 2002. Requests to have a copy of your material distributed to each member of the Committee or working groups should reach the Coast Guard on or before February 25, 2002.

ADDRESSES: TSAC will meet in the Commission Room, Port of San Francisco, Pier One, Embarcadero, San Francisco, CA. The working groups will begin in the same room and may move to separate spaces designated at that time. Send written material and requests to make oral presentations to Mr. Gerald P. Miante, Commandant (G-MSO-1), U.S. Coast Guard Headquarters, 2100 Second Street SW., Washington, DC 20593-0001. This notice is available on the Internet at http://dms.dot.gov.

FOR FURTHER INFORMATION CONTACT: Mr. Gerald P. Miante, Assistant Executive Director, telephone 202-267-0229, or LCDR Lance Lindsay, telephone 202-267-0218, fax for both is 202-267-4570, or e-mail at: gmiante@comdt.uscg.mil.

SUPPLEMENTARY INFORMATION: Notice of these meetings is given under the Federal Advisory Committee Act, 5 U.S.C. App. 2.

Agenda of Committee Meeting

The agenda tentatively includes the following:

(1) Status Report of the Crew Alertness Working Group,

(2) Status Report of the Gulf Coast Mariners Association (GCMA) Report Working Group,

(3) Status Report Licensing Implementation Working Group,

(4) Status Report of the rulemaking on Fire-Suppression Systems and Voyage Planning for Towing Vessels, and

(5) Status Report of the Maritime Security Working Group.

(6) Committee consideration of a draft task statement from the Towing Vessel Regulatory Review Work Group.

Procedural

All meetings are open to the public. Please note that the meetings may close early if all business is finished. Members of the public may make oral presentations during the meetings. If you would like to make an oral presentation at a meeting, please notify the Assistant Executive Director no later than February 25, 2002. Written material for distribution at a meeting should reach the Coast Guard no later than February 25, 2002. If you would like a copy of your material distributed to each member of the committee or subcommittee in advance of a meeting, please submit 25 copies to the Assistant Executive Director no later than February 25, 2002.

Information on Services for Individuals With Disabilities

For information on facilities or services for individuals with disabilities or to request special assistance at the meetings, contact the Assistant Executive Director as soon as possible.

Dated: February 11, 2002.
Howard L. Hine,
Acting Director of Standards, Marine Safety and Environmental Protection.

[FR Doc. 02-4084 Filed 2-19-02; 8:45 am]

BILLING CODE 4910-15-P